DEPARTMENT OF HOMELAND SECURITY

Coast Guard

33 CFR Part 117

[USCG-2009-0155]

Drawbridge Operation Regulations; Annisquam River, Gloucester, MA, Maintenance

AGENCY: Coast Guard, DHS.

ACTION: Notice of temporary deviation from regulations.

SUMMARY: The Commander, First Coast Guard District, has issued a temporary deviation from the regulation governing the operation of the Blynman SR127 Bridge across the Annisquam River at mile 0.0, at Gloucester, Massachusetts. This temporary deviation allows the SR127 Bridge to remain in the closed position for four days to facilitate bridge maintenance.

DATES: This deviation is effective from 6 a.m. on March 16, 2009 through 6 p.m. on March 25, 2009.

ADDRESSES: Documents indicated in this preamble as being available in the docket are part of docket USCG-2009-0155 and are available online at www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: John McDonald, Project Officer, First Coast Guard District, at (617) 223-8364.

SUPPLEMENTARY INFORMATION: The Blynman SR127 Bridge, across the Annisquam River at mile 0.0, at Gloucester, Massachusetts, has a vertical clearance in the closed position of 7 feet at mean high water and 16 feet at mean low water. The existing drawbridge operation regulations are listed at 33 CFR 117.586.

The waterway predominantly supports recreational vessels of various sizes, tour boats, whale watch boats and commercial fishing boats.

The bridge owner, Massachusetts Highway department (MHD), requested a temporary deviation to facilitate emergency bridge maintenance to repair broken pinion bolts.

The bridge owner did not provide the thirty days notice to the Coast Guard for this deviation; however, this deviation was approved because the repairs are time critical and must be performed without undue delay in order to assure the continued safe reliable operation of the bridge.

Under this temporary deviation the Blynman SR127 Bridge may remain in the closed position from 6 a.m. through 6 p.m. on March 16, 2009 to make a template to fabricate new bolts and from 6 a.m. on March 23, 2009 through 6 p.m. on March 25, 2009, to install the new pinion cap bolts. Vessels that can pass under the bridge without a bridge opening may do so at all times.

In accordance with 33 CFR 117.35(e), the bridge must return to its regular operating schedule immediately at the end of the designated time period. This deviation from the operating regulations is authorized under 33 CFR 117.35.

Dated: March 9, 2009.
Gary Kassof,
Bridge Program Manager, First Coast Guard District.

[FR Doc. E9-5988 Filed 3-18-09; 8:45 am]

BILLING CODE 4910-15-P